DEPARTMENT OF TRANSPORTATION

Pipeline And Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before March 19, 2026.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Director, Office of Hazardous Materials Safety Special Permits Program, Pipeline and Hazardous Materials Safety Administration, U.S. Department of Transportation, East Building, PHH-6, 1200 New Jersey Avenue Southeast, Washington, DC 20590-0001, (202) 366-4535.

SUPPLEMENTARY INFORMATION: Copies of the applications are available for inspection in the Records Center, East Building, PHH-6, 1200 New Jersey Avenue Southeast, Washington DC.

This notice of receipt of applications for special permit is published in accordance with part 107 of the Federal hazardous materials transportation law (49 U.S.C. 5117(b); 49 CFR 1.53(b)).

Issued in Washington, DC, on February 4, 2026.
Donald P. Burger,
Director, Special Permits Program.

Application No. | Applicant | Regulation(s) affected | Nature of the special permits thereof
SPECIAL PERMITS DATA—Granted
10878-M | TankCon FRP Inc | 172.102(c)(3), 172.203(a), 173.242 | To modify the special permit to authorize additional packagings.
11725-M | Thales Alenia Space Italia Spa | 172.300, 172.400, 173.301(f), 173.302a(a)(1), 173.304a(a)(2) | To modify the special permit to authorize 2.5 kg of anhydrous ammonia in heat pipes.
13546-M | Catexel Nease LLC | 172.602(c)(1), 172.604(a)(3), 177.817, 177.823(a) | To modify the special permit to authorize cargo tanks each with a capacity not to exceed 7,000 gallons.
14649-M | Olin Winchester LLC | 172.101(i)(3), 172.300(a), 172.300(b), 172.300(c), 172.400(a), 173.62(c) | To modify the special permit to authorize an additional material, remove transport location limitations, and add alternative packaging options.
16308-M | Vero Biotech Inc | 173.175 | To modify the special permit to authorize changes to the packaging.
20519-M | Richemont North America, Inc | 173.4b(a)(10) | To modify the special permit by deleting paragraph 8.f.
20851-M | Call2Recycle, Inc | 172.447 | To modify the special permit to provide an additional relief from the labeling requirements in Parts 172 of the HMR.
21213-M | Space Exploration Technologies Corp | 172.300, 172.400, 173.302(a), 172.402(f), 173.1, 177.840 | To modify the special permit to authorize a single tank propulsion system, lithium-ion battery packs, and additional transportation locations.
21408-M | GFS Chemicals, Inc | 173.158(f)(3) | To modify the special permit to authorize the manufacture of plastic bottles with a smaller opening.
21433-M | Pyrotek Special Effects Rock Lititz Inc | 172.301(c), 173.24(f)(2), 173.306(k) | To modify the special permit to increase the number of packages authorized to be transported in non-exclusive use and to authorize a QR code to be marked on the package instead of requiring a copy of the special permit to be carried aboard each motor vehicle.
21528-M | Honeywell Intellectual Properties Inc | 173.302a(a)(1) | To modify the special permit to correct typographical errors and increase the service pressure to 10,400 psig from 10,000 psig.
21774-M | American Airlines, Inc | 172.203(a), 172.301(c), 173.309(c) | To modify the special permit to authorize an alternative outer packaging.
21866-M | Electronic Recyclers International Inc | 172.102(c)(1), 172.200, 172.300, 172.400, 172.500, 172.600, 172.700(a), 173.159a(c)(2), 173.185(c)(1)(iii), 173.185(c)(1)(iv), 173.185(c)(1)(v), 173.185(c)(3), 173.185(f) | To modify the special permit to authorize additional packaging.
21985-N | Accuray Incorporated | 173.310 | To authorize the manufacture, mark, sale, and use of non-DOT specification cylinders for the purpose of incorporation into a radiation detector.
22067-N | Amazon.com, Inc | 173.301(c), 173.306(a)(1) | To authorize the transportation in commerce of certain compressed gases (Argon, Carbon Dioxide, Helium, and Nitrogen) in authorized cylinders with a capacity of no more than 1 liter as limited quantities.
22068-N | Process Insights Cosa Xentaur Corporation | 172.102(c)(1) | To authorize the transportation in commerce of Dangerous goods in articles or Dangerous goods in apparatus, class 9, containing a Division 4.2 solid hazardous material that does not have an exception shown in Column (8A) of the Hazardous Materials Table.
22083-N | Amazon.com, Inc | 173.150(g)(1), 173.150(g)(2), 173.301(c) | To authorize the transportation in commerce of beverages, food, cosmetics and medicines, medical screening solutions, and concentrates sold as retail products containing saturated linear or branched alcohols (except methanol) classed as a flammable liquid or a flammable solid containing saturated linear or branched alcohols (except methanol) as being excepted from the Hazardous Materials Regulations (HMR).
22110-M | Blue Origin, LLC | 173.301(f)(1), 173.302(a)(1) | To modify the special permit to authorize additional COPVs and to provide additional information.
22134-N | Planet Labs PBC | 173.301(f), 173.302a(a)(1) | To authorize the transportation in commerce of a non-DOT specification cylinder containing certain Division 2.2 compressed gases and incorporated into a spacecraft or components of a spacecraft.
22141-N | Pacific Environmental Corp | 173.24(f), 173.24a(a)(3) | To authorize the one-time, one-way transportation in commerce of 1H2 open head drums containing nickel-iron batteries fitted with a vent for emitting hydrogen gas.
22147-N | Jiangsu Huanqiu Can Manufacturing Co., Ltd | 173.304(d) | To authorize the manufacture, mark, sale and use of non-DOT specification, non-refillable containers similar to a DOT specification 2Q.
22165-N | Noble Gas Systems Inc | 173.302(a) | To authorize the manufacture, mark, sale, and use of non-DOT specification composite cylinders (dry composite pressure vessels (DCPVs)) with a non-load sharing plastic liner similar to the UN/ISO 11119-3 specification.
22175-N | Korean Air Lines Co., Ltd | 175.30(a)(1) | To authorize the transportation in commerce of forbidden explosives by cargo-only aircraft in support of foreign military sales (FMS).
22178-N | Arch Recycling Resources LLC | 173.185(a), 173.185(c)(3) | To authorize the one-time, one-way transportation of lithium ion batteries and other electronic equipment currently contained in nine (9) freight containers from the Port of New Newark, New Jersey to the facilities outlined in the special permit.
22192-N | Echo Magnet Services B.V | 172.101(j)(1), 172.301(c), 173.232(h)(2) | To authorize the transportation in commerce of magnetic resonance imaging (MRI) machines (classified as UN3538) via cargo-only aircraft.
SPECIAL PERMITS DATA—Denied
22136-N | WMA Motorsports | 173.202 | To authorize the transportation in commerce of UN1992, flammable liquids, toxic, n.o.s. in non-UN specification 5-gallon steel drums.
SPECIAL PERMITS DATA—Withdrawn
22189-N | Parker-Hannifin Corporation | 173.22(a)(1) | To authorize the transportation of a non-hazardous materials that is marked with hazardous materials communications.

[FR Doc. 2026-03067 Filed 2-13-26; 8:45 am]

BILLING CODE 4910-60-P